ENVIRONMENTAL PROTECTION AGENCY

[EPA-HQ-OPP-2019-0045; FRL-9996-77]

Pesticide Product Registration; Receipt of Applications for New Uses in June 2019

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before September 5, 2019.

ADDRESSES: Submit your comments, identified by the docket identification (ID) number and the EPA File Symbol or EPA Registration Number of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets.

Additional instructions on commenting or visiting the docket, along with more information about dockets generally, is available at https://www.epa.gov/dockets/about-epa-dockets.

FOR FURTHER INFORMATION CONTACT: Robert McNally, Biopesticides and Pollution Prevention Division (BPPD) (7511P), main telephone number: (703) 305-7090, email address: BPPDFRNotices@epa.gov; or Michael Goodis, Registration Division (RD) (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

New Uses

1. EPA Registration Numbers: 279-9586; 279-9596; 279-9597 and 279-9598. Docket ID Number: EPA-HQ-OPP-2019-0384. Applicant: E. I. du Pont de Nemours and Company, 974 Centre Road, Wilmington, Delaware 19805, requests to establish a tolerance for residues of the insecticide indoxacarb in or on corn, pop, grain at 0.02 parts per million (ppm) and corn, pop, stover at 15 ppm. The plant residue enforcement method detects and quantitates indoxacarb in various matrices including sweet corn, lettuce, tomato, broccoli, apple, grape, cottonseed, tomato, peanut and soybean commodity samples by HPLC UV. The limit of quantitation in the method allows monitoring of crops with KN128/KN127 residues at or above the levels proposed in these tolerances. Contact: RD.

2. EPA Registration Numbers: 352-890, 352-924. Docket ID Number: EPA-HQ-OPP-2019-0128. Applicant: DuPont Crop Protection, Chestnut Run Plaza—Bldg 735/4150-3, 974 Centre Road, Wilmington, DE 19805. Active ingredient: Oxathiapiprolin. Product type: Fungicide. Proposed use: Berry, low growing, subgroup 13-07G, except cranberry; Tropical and subtropical medium to large fruit, smooth, inedible peel, subgroup 24B; Hop, dried cones; Dwarf pea, edible podded; Edible podded pea; Green pea, edible podded; Snap pea, edible podded; Snow pea, edible podded; Sugar snap pea, edible podded; Grass-pea, edible podded; Lentil, edible podded; Pigeon pea, edible podded; Chickpea, edible podded; Chickpea, succulent shelled; English pea, succulent shelled; Garden pea, succulent shelled; Green pea, succulent shelled; Pigeon pea, succulent shelled; Lentil, succulent shelled. Contact: RD.

3. EPA File Symbol Numbers: 1021-EIEO; 1021-EIGN; 1021-EIGR; 1021-EIEI. Docket ID Number: EPA-HQ-OPP-2019-0280. Applicant: MGK, 8810 Tenth Avenue North, Minneapolis, MN 55427-4319. Active Ingredient: SI-183 (1R-Phenothrin 98%). Product type: Insecticide. Proposed Use: Non-food indoor, outdoor, and residential uses. Contact: RD

4. EPA File Symbol Number: 1021-EIGE. Docket ID Number: EPA-HQ-OPP-2019-0364. Applicant: MGK; 8810 Tenth Avenue North; Minneapolis, MN 55427. Active ingredient: Metofluthrin. Product type: Insecticide. Proposed Use: Non-food outdoor residential broadcast spray. Contact: RD.

5. EPA Registration Number: 10308-30. Docket ID Number: EPA-HQ-OPP-2019-0364. Applicant: Sumitomo Chemical Co., Ltd.; 27-1 Shinkawa, 2-chome, Chuo-ku, Tokyo, Japan 104-8260 (c/o Technology Sciences Group; 1150 18th St. NW, Suite 1000, Washington, DC 20036). Active ingredient: Metofluthrin. Product type: Insecticide. Proposed Use: Non-food outdoor residential broadcast spray. Contact: RD.

6. EPA File Symbol Number: 10308-GT. Docket ID Number: EPA-HQ-OPP-2019-0280). Applicant: Sumitomo Chemical Company, Ltd., 27-1 Shinkawa, 2-Chome, Chuo-Ku, Tokyo, Japan 104-8260 (c/o Technology Sciences Group Inc., 1150 18th St. NW Suite 1000, Washington, DC 20036). Active Ingredient: SI-183 (1R-Phenothrin 98%). Product type: Insecticide. Proposed use: Non-food indoor, outdoor, and residential uses. Contact: RD.

7. EPA Registration Numbers: 59639-185 and 59639-186. Docket ID Number: EPA-HQ-OPP-2019-0230. Applicant: Valent U.S.A. LLC, P.O. Box 8025, Walnut Creek, CA 94596-8025. Active ingredient: ethaboxam. Product type: fungicide. Proposed use: seed treatment on sugar beet. Contact: RD.

8. EPA File Symbol Number: 62719-TGT. Docket ID Number: EPA-HQ-OPP-2018-0645. Applicant: Dow AgroSciences LLC, 9330 Zionsville Road Indianapolis, IN 46268. Active ingredient: Florpyrauxifen-benzyl. Product type: Herbicide. Proposed uses: Grass forage, fodder, hay, and clover. Contact: RD.

9. EPA Registration Numbers: 71512-7; 71512-9; 71512-10 and 71512-14. Docket ID Number: EPA-HQ-OPP-2019-0250. Applicant: ISK Biosciences Corporation, 7470 Auburn Road, Suite A, Concord, Ohio 44077, requests to establish a tolerance for residues of the insecticide flonicamid in or on greenhouse lettuce, and an increase in the existing tolerance for leafy greens subgroup 4-16A. Adequate enforcement methodology (FMC Method No. P-3561M, a liquid chromatography with tandem mass spectrometry (LC/MS/MS) method) is available to enforce the tolerance expression for flonicamid and its metabolites in or on plant commodities. Contact: RD.

10. EPA Registration Number: 87301-1. Docket ID Number: EPA-HQ-OPP-2010-0247. Applicant: Biocontrol Technologies, S.L., Avgda. Madrid, 215-217, entresòl A, 08014 Barcelona, Spain (c/o Wagner Regulatory Associates, Inc., P.O. Box 640, Hockessin, DE 19707). Active ingredient: Trichoderma asperellum, strain T34. Product type: Fungicide and Bactericide. Proposed use: For use outdoors and on food in agricultural and residential settings to protect plants against diseases. Contact: BPPD.

Authority: 7 U.S.C. 136 et seq.

Dated: July 24, 2019.
Delores Barber,
Director, Information Technology and Resources Management Division, Office of Pesticide Programs.

[FR Doc. 2019-16732 Filed 8-5-19; 8:45 am]

BILLING CODE 6560-50-P